BROADCASTING BOARD OF GOVERNORS

Government in the Sunshine Act Meeting Notice

DATE AND TIME: Thursday, October 8, 2015, 8:30 a.m.-11:15 a.m. EDT.

PLACE: Middle East Broadcasting Networks, Suite D, 7600 Boston Blvd., Springfield, VA 22153.

SUBJECT: Notice of Meeting of the Broadcasting Board of Governors.

SUMMARY: The Broadcasting Board of Governors (Board) will be meeting at the time and location listed above. The Board will vote on a consent agenda consisting of the minutes of its July 1, 2015 meeting, a resolution honoring the 65th anniversary of Radio Free Europe/Radio Liberty broadcasting in the Romanian language to Romania and Moldova, a resolution honoring the 60th anniversary of Voice of America's Khmer Service, a resolution on 2015 David Burke Distinguished Journalism Awards, and a resolution on BBG meeting dates in 2016. The Board will receive a report from Governor Matt Armstrong on his recent trip and a report from the Chief Executive Officer and Director of BBG. The Board will also receive a review of the Middle East Broadcasting Networks. The Board will convene a panel discussion featuring Under Secretary Richard Stengel and BBG Chief Executive Officer and Director John Lansing.

This meeting will be available for public observation via streamed webcast, both live and on-demand, on the agency's public Web site at www.bbg.gov. Information regarding this meeting, including any updates or adjustments to its starting time, can also be found on the agency's public Web site.

The public may also attend this meeting in person at the address listed above as seating capacity permits. Members of the public seeking to attend the meeting in person must register at http://bbgboardmeetingoctober2015.eventbrite.com by 12:00 p.m. (EDT) on October 7. For more information, please contact BBG Public Affairs at (202) 203-4400 or by email at pubaff@bbg.gov.

CONTACT PERSON FOR MORE INFORMATION: Persons interested in obtaining more information should contact Oanh Tran at (202) 203-4545.

Oanh Tran,
Director of Board Operations.

[FR Doc. 2015-25443 Filed 10-1-15; 4:15 pm]

BILLING CODE 8610-01-P